DEPARTMENT OF STATE

[Public Notice 5219]

Announcement of Meetings of the International Telecommunication Advisory Committee

SUMMARY: The International Telecommunication Advisory Committee announces meetings to prepare for the 2006 International Telecommunication Union (ITU) Plenipotentiary Conference and the 2006 ITU World Telecommunication Development Conference.

The International Telecommunication Advisory Committee (ITAC) will meet on each Tuesday 2-4 p.m. during January and February starting January 11, 2006 to prepare for the 2006 ITU Plenipotentiary Conference. The meetings will be held at the offices of AT&T, 1120 20th Street, NW., Washington, DC. A conference bridge will be provided. Directions to the venue of the meeting may be obtained from Julian Minard, minardje@state.gov.

The International Telecommunication Advisory Committee (ITAC) will meet on each Wednesday 2-4 p.m. during January and February starting January 12, 2006 to prepare for the 2006 ITU Telecommunication Development Conference. A conference bridge will be provided. Directions to the venue of the meeting may be obtained from Julian Minard, minardje@state.gov.

Dated: December 8, 2005.
Anne Jillson,
Foreign Affairs Officer, International Communications & Information Policy, Department of State.

[FR Doc. E5-7615 Filed 12-20-05; 8:45 am]

BILLING CODE 4710-07-P